DEPARTMENT OF COMMERCE

National Oceanic and Atmospheric Administration

[I.D. 080300G]

Marine Mammals; File No. 909-1465-01

AGENCY: National Marine Fisheries Service (NMFS), National Oceanic and Atmospheric Administration (NOAA), Commerce.

ACTION: Issuance of permit amendment.

SUMMARY: Notice is hereby given that Permit No. 909-1465-00, issued to Dan Engelhaupt, Biological Sciences Department, University of Durham, Science Laboratories, South Road, Durham, DH1 3LEQ, UNITED KINGDOM, was amended.

ADDRESSES: The amendment and related documents are available for review upon written request or by appointment in the following offices:

Permits and Documentation Division, Office of Protected Resources, NMFS, 1315 East-West Highway, Room 13130 Silver Spring, MD 20910 (301/713-2289); and

Regional Administrator, Southeast Region, NMFS, 9721 Executive Center Drive, St. Petersburg, Florida 33702-2432, (727/570-5312).

FOR FURTHER INFORMATION CONTACT: Jill Lewandowski, 301/713-2289.

SUPPLEMENTARY INFORMATION: On June 14, 2000, notice was published in the Federal Register (65 FR 37361) that an amendment of Permit No. 909-1465-00, issued September 17, 1999 (64 FR 50494), had been requested by the above-named person. The requested amendment has been issued under the authority of the Marine Mammal Protection Act of 1972, as amended (16 U.S.C. 1361 et seq.), the Regulations Governing the Taking and Importing of Marine Mammals (50 CFR part 216), the Endangered Species Act (ESA) of 1973, as amended (16 U.S.C. 1531 et seq.), and the Regulations Governing the Taking, Importing, and Exporting of Endangered Fish and Wildlife (50 CFR part 222).

The amendment authorizes the extension of the study for sperm whales only to waters of the Caribbean Sea and mid-western Atlantic with an increase in takes of 250 individuals by biopsy and 750 individuals by incidental harassment over the course of the permit. The amendment also allows for biopsy sampling of female sperm whales with calves present as long as calves are longer than 4.5 meters in length.

Issuance of this permit amendment, as required by the ESA, was based on a finding that such permit amendment (1) was applied for in good faith, (2) will not operate to the disadvantage of the endangered species which is the subject of this permit amendment, and (3) is consistent with the purposes and policies set forth in section 2 of the ESA.

Dated: March 9, 2001.
Ann D. Terbush,
Chief, Permits and Documentation Division, Office of Protected Resources, National Marine Fisheries Service.

[FR Doc. 01-6453 Filed 3-14-01; 8:45 am]

BILLING CODE 3510-22-S